DEPARTMENT OF THE INTERIOR

Fish and Wildlife Service

50 CFR Parts 20 and 21

RIN 1018-A107

Migratory Bird Hunting and Permits; Regulations for Managing Harvest of Light Goose Populations; Correction

AGENCY: Fish and Wildlife Service, Interior.

ACTION: Proposed rule; correction.

SUMMARY: On October 12, 2001 the U.S. Fish and Wildlife Service published a proposal to authorize new regulations to increase harvest of overabundant light goose populations (greater and lesser snow geese and Ross' geese). Such regulations are proposed for States in the Atlantic, Mississippi, and Central Flyways. This correction adds New Jersey to the list of Atlantic Flyway States being proposed for eligibility for such regulations.

DATES: Comments on this proposed rule must be received by December 14, 2001.

ADDRESSES: 1. Comments should be mailed to Chief, Division of Migratory Bird Management, U.S. Fish and Wildlife Service, Department of the Interior, ms 634—ARLSQ, 1849 C Street, NW., Washington, DC 20240. Alternatively, comments may be submitted electronically to the following address: white_goose_eis@fws.gov.

2. The public may inspect comments during normal business hours in Room 634—Arlington Square Building, 4401 N. Fairfax Drive, Arlington, Virginia.

3. You may obtain copies of the draft environmental impact statement from the above address, or by downloading it from our web site at http://migratorybirds.fws.gov/issues/snowgse/tblcont.html.

FOR FURTHER INFORMATION CONTACT: Jon Andrew, Chief, Division of Migratory Bird Management, (703) 358-1714; or James Kelley (612) 713-5409.

SUPPLEMENTARY INFORMATION: On October 5, 2001 (66 FR 51274) we notified the public of the availability of a Draft Environmental Impact Statement (DEIS) on light goose management. The DEIS analyzes several alternatives for addressing habitat degradation associated with overabundant light goose populations. On October 12, 2001 (66 FR 52077) we published a proposed rule to authorize new regulations that would increase harvest of certain light goose populations in the Atlantic, Mississippi, and Central Flyways. The proposal corresponds to our preferred alternative identified in the DEIS. We inadvertently omitted New Jersey from the list of States that are proposed as being eligible to implement special light goose regulations. This correction adds New Jersey to the list of eligible States.

Correction

Accordingly, making the following corrections to FR Doc. 01-25612 published at 66 FR 52077 on October 12, 2001:

1. On page 52088 in columns two and three, correct paragraphs § 20.21 (b) and (g) to read as follows:

§ 20.21 What hunting methods are illegal?

* * * * *

(b) With a shotgun of any description capable of holding more than three shells, unless it is plugged with a one-piece filler, incapable of removal without disassembling the gun, so its total capacity does not exceed three shells. This restriction does not apply during a light-goose-only season (greater and lesser snow geese and Ross' geese) when all other waterfowl and crane hunting seasons, excluding falconry, are closed while hunting light geese in Atlantic, Central, and Mississippi Flyway portions of Alabama, Arkansas, Colorado, Connecticut, Delaware, Florida, Georgia, Illinois, Indiana, Iowa, Kansas, Kentucky, Louisiana, Maine, Maryland, Massachusetts, Michigan, Minnesota, Mississippi, Missouri, Montana, Nebraska, New Hampshire, New Jersey, New Mexico, New York, North Carolina, North Dakota, Ohio, Oklahoma, Pennsylvania, Rhode Island, South Carolina, South Dakota, Tennessee, Texas, Vermont, Virginia, West Virginia, Wisconsin, and Wyoming.

* * * * *

(g) By the use or aid of recorded or electrically amplified bird calls or sounds, or recorded or electrically amplified imitations of bird calls or sounds. This restriction does not apply during a light-goose-only season (greater and lesser snow geese and Ross' geese) when all other waterfowl and crane hunting seasons, excluding falconry, are closed while hunting light geese in Atlantic, Central, and Mississippi Flyway portions of Alabama, Arkansas, Colorado, Connecticut, Delaware, Florida, Georgia, Illinois, Indiana, Iowa, Kansas, Kentucky, Louisiana, Maine, Maryland, Massachusetts, Michigan, Minnesota, Mississippi, Missouri, Montana, Nebraska, New Hampshire, New Jersey, New Mexico, New York, North Carolina, North Dakota, Ohio, Oklahoma, Pennsylvania, Rhode Island, South Carolina, South Dakota, Tennessee, Texas, Vermont, Virginia, West Virginia, Wisconsin, and Wyoming.

* * * * *

2. On page 52089 in column one, correct paragraph § 21.60(c)(1) to read as follows:

§ 21.60 Conservation order for light geese.

* * * * *

(c) * * *

(1) The following States, or portions of States, that are contained within the boundaries of the Atlantic, Mississippi, and Central Flyways: Alabama, Arkansas, Colorado, Connecticut, Delaware, Florida, Georgia, Illinois, Indiana, Iowa, Kansas, Kentucky, Louisiana, Maine, Maryland, Massachusetts, Michigan, Minnesota, Mississippi, Missouri, Montana, Nebraska, New Hampshire, New Jersey, New Mexico, New York, North Carolina, North Dakota, Ohio, Oklahoma, Pennsylvania, Rhode Island, South Carolina, South Dakota, Tennessee, Texas, Vermont, Virginia, West Virginia, Wisconsin, and Wyoming.

* * * * *

Dated: October 31, 2001.
Joseph E. Doddridge,
Acting Assistant Secretary for Fish and Wildlife and Parks.

[FR Doc. 01-27940 Filed 11-6-01; 8:45 am]

BILLING CODE 4310-55-M